DEPARTMENT OF COMMERCE

National Oceanic and Atmospheric Administration

[I.D. 050203A]

Endangered and Threatened Species; Take of Anadromous Fish

AGENCY: National Marine Fisheries Service (NMFS), National Oceanic and Atmospheric Administration (NOAA), Commerce.

ACTION: Receipt of an application for a scientific research/enhancement permit (1435) and request for comment.

SUMMARY: Notice is hereby given that NMFS has received an application for a permit from Lisa Thompson, Ph.D. at UC Davis, CA (1435). The permit would affect the Southern Oregon/Northern California Coasts coho salmon (Oncorhynchus kisutch) Evolutionarily Significant Unit (ESU). This document serves to notify the public of the availability of the permit application for review and comment before a final approval or disapproval is made by NMFS.

DATES: Written comments on the permit application must be received no later than 5 p.m. Pacific Standard Time on June 12, 2003.

ADDRESSES: Written comments on the permit request should be sent to Diana Hines, Protected Species Division, NMFS, 777 Sonoma Avenue, Room 325, Santa Rosa, CA 95404-6528 (ph: 707-575-6057, fax: 707-578-3435). Comments will not be accepted if submitted via e-mail or the Internet. The applications and related documents are available for review by appointment at the Protected Species Division, NMFS, 777 Sonoma Avenue, Room 325, Santa Rosa, CA 95404-6528 (ph: 707-575- 6057, fax: 707-578-3435) and at the Office of Protected Resources, F/PR3, NMFS, 1315 East-West Highway, Silver Spring, MD 20910-3226 (301 713 1401).

FOR FURTHER INFORMATION CONTACT: Diana Hines at phone number 707-575-6057, or e-mail: diana.hines@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the threatened Southern Oregon/Northern California Coasts (SONCC) coho salmon (Oncorhynchus kisutch) ESU.

Permit Request Received

Lisa Thompson, Ph.D. requests a permit for takes of juvenile ESA-listed SONCC coho salmon associated with studies of presence, distribution and fish habitat use in the Shasta River, CA. Lisa Thompson, Ph.D. requests non-lethal take of 952 juvenile SONCC coho salmon for this project.

Dated: May 8, 2003.
Susan Pultz,
Acting Chief, Endangered Species Division, Office of Protected Resources, National Marine Fisheries Service.

[FR Doc. 03-11916 Filed 5-12-03; 8:45 am]

BILLING CODE 3510-22-S